DEPARTMENT OF THE INTERIOR

Bureau of Reclamation

Southern Delivery System, Colorado

AGENCY: Bureau of Reclamation, Interior.

ACTION: Notice of Availability for the Southern Delivery System Draft Environmental Impact Statement (Draft EIS) and Announcement of Public Meetings.

SUMMARY: The Bureau of Reclamation published a notice in the Federal Register on September 8, 2003, (68 FR 52953) announcing commencement of work under the National Environmental Policy Act (NEPA) on an environmental impact statement for the Southern Delivery System project (SDS). We are now notifying the public that Reclamation has completed the Draft EIS which is now available for public review and comment. The U.S. Army Corps of Engineers, Environmental Protection Agency, Bureau of Land Management, and U.S. Fish and Wildlife Service are cooperating agencies in preparing the Draft EIS. The Draft EIS provides information and analyses on seven alternatives that were developed for the project based on key issues. Ten key issues relevant to the proposed SDS associated with water flow and quality, stream channel morphology, sedimentation, water rights, fish and aquatic life, wetlands, wildlife, socioeconomics, and recreation are addressed in the analysis. Significant effects on natural resources are examined and mitigation measures, where appropriate to avoid or minimize impacts, are incorporated into the alternatives. The Draft EIS includes appendices with technical analyses and supporting documentation of the analysis findings and summaries.

DATES: A 60-day public comment period on the Draft EIS commences with the publication of this notice. Written comments are due by April 26, 2008, and should be submitted to the address provided below.

ADDRESSES: Send comments in writing on the Draft EIS to: Southern Delivery System EIS, Attention: Ms. Kara Lamb, Bureau of Reclamation, Eastern Colorado Area Office, 11056 W. County Road 18E, Loveland, CO 80537-9711. Comments may also be submitted via facsimile at (970) 663-3212 (attention: Ms. Kara Lamb; Southern Delivery System EIS) or e-mail to: klamb@gp.usbr.gov.

FOR FURTHER INFORMATION CONTACT:

Additional Information and Copies of Reports: For copies of the Draft EIS and or copies of the technical reports, please send written requests to Ms. Kara Lamb, Bureau of Reclamation, Eastern Colorado Area Office, 11056 W. County Road 18E, Loveland, CO 80537-9711 or e-mail to: klamb@gp.usbr.gov. The full reports and documents are also available on the project Web site at: www.sdeis.com. For additional information please contact Ms. Kara Lamb at (970) 962-4326.

SUPPLEMENTARY INFORMATION: Reclamation will hold public meetings (in an open house format) to receive verbal and written comments on the Draft EIS at the following places and times:

Public Meeting Dates

• April 1, 2008, 6 p.m.-9 p.m.—Buena Vista, CO.

• April 2, 2008, 6 p.m.-9 p.m.—Pueblo, CO.

• April 3, 2008, 6 p.m.-9 p.m.—La Junta, CO.

• April 8, 2008, 6 p.m.-9 p.m.—Fountain, CO.

• April 9, 2008, 6 p.m.-9 p.m.—Colorado Springs, CO.

• April 10, 2008, 6 p.m.-9 p.m.—Canon City, CO.

Public Meeting Locations

• Buena Vista Community Center, 715 E. Main, Buena Vista, CO 81211.

• Sangre de Cristo Arts and Conference Center, 210 North Santa Fe Avenue, Pueblo, CO 81003.

• Koshare Indian Museum, 115 W. 18th Street, La Junta, CO 81050.

• Fountain-Fort Carson High School, 900 Jimmy Camp Road, Fountain, CO 80817.

• Leon Young Service Center—Pikes Peak Room, 1521 Hancock Expressway, Colorado Springs, CO 80903.

• Quality Inn and Suites, 3075 E. US 50, Canon City, CO 81212.

Public Review Locations

Copies of the Draft EIS are available for public inspection and review at the following locations:

• Bureau of Reclamation, Eastern Colorado Area Office, 11056 W. County Road 18E, Loveland, CO 80537.

• Buena Vista/North Chaffee County Library, 131 Linderman Ave., Buena Vista, CO 81211.

• Cañon City Public Library, 516 Macon Ave., Cañon City, CO 81212.

• Pikes Peak Library District—Penrose Library, 20 N Cascade Ave., Colorado Springs, CO 80903.

• Pueblo City-County Library District, 100 E Abriendo Ave., Pueblo, CO 81004.

• Woodruff Memorial Library, 522 Colorado Ave., La Junta, CO 81050.

Background: In February 2003, the proposed project's non-Federal participants (City of Colorado Springs, City of Fountain, Security Water District, and Pueblo West Metropolitan District) requested a long-term water conveyance contract from Reclamation in association with the SDS project. In July 2003, Colorado Springs Utilities also requested a long-term contract for storage of water in Pueblo Reservoir. Because the SDS project would involve Federal actions in the form of long-term storage and conveyance contracts from Reclamation, it was determined that Reclamation should be the lead Federal agency for preparing the EIS. Reclamation began the formal scoping process in September 2003 with a series of public open houses to provide information on the SDS project and to receive comments regarding the proposed project from the public. Scoping comments regarding the SDS project were formally received through October 2003. However, Reclamation has continued to receive and consider public comments during preparation of the Draft EIS. The SDS EIS Scoping Report, released in January 2004, summarized comments collected during formal scoping. Those same comments were used to identify ten key issues that are described and evaluated in the Draft EIS. In October 2005, Reclamation hosted five public workshops regarding alternative development for the SDS EIS. The purpose of the workshops was to present the alternatives that are proposed for detailed evaluation in the EIS and to solicit public comment on other potential alternatives that would address environmental issues. The Draft EIS will be available for public review and comment prior to a series of public meetings to receive comments on it. A Final EIS will be prepared subsequent to the close of the comment period on the Draft EIS. The Final EIS is expected to be completed in late 2008 after which Reclamation will approve a Record of Decision (ROD) describing its decision on the SDS project.

Proposed Federal Action: Reclamation proposes to enter into contracts with the Participants and issue special use permits where needed so that the SDS project can be constructed and operated. The proposed Federal action includes three elements that are considered in the Draft EIS. These include: (1) Approval of Federal water storage, conveyance, and exchange contracts; (2) issuance of Federal special use permits; and (3) capacity trade in the Fountain Valley Authority pipeline. The City of Colorado Springs (Colorado Springs), City of Fountain (Fountain), Security Water District (Security), and Pueblo West Metropolitan District (Pueblo West), collectively referred to as the Participants, have requested contracts and special use permits with the Department of the Interior, Bureau of Reclamation. The Participants require contracts with Reclamation for use of excess storage capacity in Pueblo Reservoir, part of the federal FryingpanArkansas project. The contracts would include storage, conveyance, and exchange between Pueblo Reservoir and Reclamation reservoirs in the upper Arkansas River Basin of Colorado.

Purpose and Need for Action: The purpose of the SDS project is to provide a safe, reliable, and sustainable water supply for the Participants through the foreseeable future. The SDS project is needed by the Participants for the following reasons:

• The Participants have a need to use developed and undeveloped water supplies to meet most or all projected future demands through 2046.

• The Participants have a need to develop additional water storage, delivery, and treatment capacity to provide system redundancy.

• The Participants have a need to perfect and deliver the Participants' existing Arkansas River Basin water rights.

The purpose of the proposed Federal action is to authorize the use of Reclamation's Fryingpan-Arkansas project features and facilities for SDS project purposes. The proposed Federal action is needed for the following reasons:

• Pueblo Reservoir and its associated facilities are owned and operated by Reclamation.

• Storage and/or conveyance of non-federal and/or non-Fryingpan-Arkansas project water in federal project facilities must be authorized by Reclamation prior to their use. The proposed use would require contracts between the Participants and Reclamation.

• The contracts would authorize use of Fryingpan-Arkansas project features and facilities to store and convey non-Federal and/or non-project water. There is an opportunity to beneficially use unused existing storage capacity in Pueblo Reservoir to meet future water demand of the Participants.

Alternatives: The Draft EIS describes and analyzes the potential effects of seven alternatives:

• The No Action Alternative represents the most likely future water development project without Reclamation's proposed Federal action.

• The Proposed Action Alternative represents the Southern Delivery System project as the Participants propose to construct and operate it.

• The Wetland Alternative was developed to minimize disturbance to wetlands.

• The Arkansas River Alternative was developed to provide the highest minimum flow in the Arkansas River through Pueblo and to minimize water quality effects on the lower Arkansas River.

• The Fountain Creek Alternative was developed to minimize geomorphic and water quality effects on Fountain Creek by minimizing the use of Fountain Creek and its tributaries for receiving and conveying reusable return flows to the Arkansas River.

• The Downstream Intake Alternative would use an untreated water intake from the Arkansas River downstream of Fountain Creek and was developed to address public interest in an alternative location for diversion of water.

• The Highway 115 Alternative would convey untreated water through a pipeline that generally follows Colorado 115 between the Arkansas River and Colorado Springs and was developed to address public interest in an alternative pipeline location.

Public Disclosure Statement: Before including your name, address, phone number, e-mail address, or other personal identifying information in your comment, you should be aware that your entire comment—including your personal identifying information—may be made publicly available at any time. While you can ask us in your comment to withhold your personal identifying information from public review, we cannot guarantee that we will be able to do so.

Dated: February 21, 2008.
Gary W. Campbell,
Deputy Regional Director, Great Plains Region.

[FR Doc. E8-3679 Filed 2-28-08; 8:45 am]

BILLING CODE 4310-MN-P